Title 3—

The President

Proclamation 7875 of March 18, 2005

National Poison Prevention Week, 2005

By the President of the United States of America

A Proclamation

National Poison Prevention Week reminds us that young children need constant close supervision by responsible adults to keep them safe. This week highlights the dangers of accidental poisonings, steps that can be taken to reduce risks, and what to do in case of an emergency.

Poison control centers receive approximately one million calls each year about children who have ingested dangerous medicines or chemicals they have found around their homes. Since the first National Poison Prevention Week 43 years ago, many deaths and injuries have been prevented through increased public awareness, the use of child-resistant packaging, and a national network of poison control centers. We must build on this progress by taking additional precautions to keep our children safe. All potentially hazardous products, including those encased in child-resistant packaging, should be stored out of the reach of children. Parents can educate themselves about poisons and receive safety information by visiting the Poison Prevention Week Council website at www.poisonprevention.org. In case of an emergency, families should keep the toll-free number, 1-800-222-1222, on hand in order to reach the nearest Poison Control Center. By properly supervising children, taking preventive measures, and knowing what to do in an emergency, we can help protect our young people from the risks of accidental poisonings.

To encourage Americans to learn more about the dangers of accidental poisonings and to take appropriate preventive measures, the Congress, by joint resolution approved September 26, 1961, as amended (75 Stat. 681), has authorized and requested the President to issue a proclamation designating the third week of March each year as “National Poison Prevention Week.”

NOW, THEREFORE, I, GEORGE W. BUSH, President of the United States of America, do hereby proclaim March 20 through March 26, 2005, as National Poison Prevention Week. I call upon all Americans to observe this week by participating in appropriate ceremonies and activities and by learning how to prevent poisonings among children.

IN WITNESS WHEREOF, I have hereunto set my hand this eighteenth day of March, in the year of our Lord two thousand five, and of the Independence of the United States of America the two hundred and twenty-ninth.

B

[FR Doc. 05-5898

Filed 3-22-05; 10:03 am]

Billing code 3195-01-P